FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573.

American Cargoservice, Inc. (OFF & NVO), 7880 Convoy Court, San Diego, CA 92111. Officers: Terrance C. Simokat, President (Qualifying Individual), Theodore Green, Stockholder, Application Type: New OFF & NVO License

Benchmark Worldwide Logistics, Inc. dba Star Ocean Lines (OFF & NVO), 29400 South Route 53, Elwood, IL 60421. Officers: Jennifer A. Tachtaul, Vice President (Qualifying Individual), Cynthia J. McDonald, President, Application Type: New OFF & NVO License

Blue Ocean Freight, Inc. dba Seaship Line (OFF & NVO), 250 Valley Street, 2F, Providence, RI 02909. Officers: Ali A. Karabashi, President/Treasurer (Qualifying Individual), Adam Karabashi, Secretary, Application Type: Add NVO Service and Trade Name Change

Blue Ocean Shipping, Inc. dba Advanced Shipping, Corp. dba Star Cluster USA (OFF & NVO), 1221 Landmeier Road, Elk Grove Village, IL 60007. Officer: Bong S. Kim, President/Secretary/CFO (Qualifying Individual), Application Type: Trade Name Change

Chemlogix Global LLC dba Vistalogix Global (OFF & NVO), 1777 Sentry Parkway West, Abington Hall, Suite 300, Blue Bell, PA 19422. Officers: William Spiro, Member/Vice President (Qualifying Individual), John S. Hamilton, Manager/Chairman/CEO, Application Type: Trade Name Change

CIL Freight Inc. (OFF), 1990 Lakeside Parkway, Suite 300, Tucker, GA 30084. Officers: Pui P. So, Vice President (Qualifying Individual), Jianjun Gan, President/Secretary/Treasurer/Director, Application Type: New OFF License

Commodity Forwarders, Inc. (OFF & NVO), 11101 S. La Cienega Blvd., Los Angeles, CA 90045. Officers: Chris Connell, President (Qualifying Individual), Alfred Kuehlewind, CEO/Secretary/Treasurer, Application Type: New OFF & NVO License

CP Worldwide Shipping Inc. (OFF & NVO), 1 Slater Drive, Elizabeth, NJ 07206. Officers: Carolyn Flecha, Vice President-Operations (Qualifying Individual), Chopra Rohit, President, Application Type: New OTI & NVO License

CTC Logistics (L.A.) Inc. (NVO), 5250 W. Century Blvd., Suite 660, Los Angeles, CA 90045. Officers: Jie Zhang, Secretary (Qualifying Individual), Yong Li, President/CEO, Application Type: QI Change

Embarque La Espanola Corp. (NVO), 31-01 102nd Street, East Elmhurst, NY 11369. Officers: Jose L. Jorge, Secretary (Qualifying Individual), Juan A. Peralta, President, Application Type: New NVO License

Ever-Leading International Inc. (OFF & NVO), 1320 N. San Gabriel Blvd. Rosemead, CA 91770. Officers: Hans Hsu, Vice President (Qualifying Individual), Huai N. Hsu, President, Application Type: Add OFF Service

Flier International Cargo, Inc. (NVO), 7164 NW 50th Street, Miami, FL 33166. Officers: Deborah S. Garcia, Treasurer/Secretary (Qualifying Individual), Marcelo Haddad, President, Application Type: New NVO License

Glovis America, Inc. (OFF & NVO), 17305 Von Karman Avenue, Irvine, CA 92614. Officers: James Oh, Vice President Freight Forwarding (Qualifying Individual), Kim Kyung Bae, CEO, Application Type: QI Change

Golden Freight, Inc. dba Saigon Express (OFF & NVO), 510 Parrott Street, #2, San Jose, CA 95112. Officer: Chi T. Hoang, CEO/CFO/Secretary (Qualifying Individual), Application Type: Add NVO Service

Grupo Tical Holding, Inc. dba GTH Corporation (OFF & NVO), 7701 NW. 46th Street, Doral, FL 33166. Officers: Albert Oses, Secretary/Treasurer (Qualifying Individual), Luis A. Ramirez, President, Application Type: New OFF & NVO License

Interport Logistics, LLC (OFF & NVO), 2000 NW. 84th Avenue, Doral, FL 33122. Officer: Alberto J. Marino, Manager (Qualifying Individual), Application Type: Business Structure Change

International Logistic Services, Inc. (OFF & NVO), 155-11 146th Avenue, Jamaica, NY 11434. Officers: Cora R. Fong, Vice President (Qualifying Individual), Jean P. Noens, President/Secretary/Treasurer, Application Type: QI Change

JWJ Express Inc. (OFF & NVO), 149-23 182nd Street, Suite 100, Jamaica, NY 11413. Officers: Charles Wu, Vice President/Secretary (Qualifying Individual), Saughwan Lee, President/Treasurer, Application Type: QI Change

Login Logistics USA, Corp. (NVO), 1345 NW. 98th Court, Bldg. A, Unit 9, Doral, FL 33172. Officers: William Medina, Director/Secretary (Qualifying Individual), Rodinilson B. da Silva, Director/President, Application Type: New NVO License

M.O.T. Intermodal Shipping USA, Inc. (OFF & NVO), 1200-C Scottsville Road, Rochester, NY 14624. Officers: Danielle M. Hogancamp, Vice President/Secretary (Qualifying Individual), Ole Enderslev, President/Treasurer, Application Type: Add NVO Service

Net Cargo LLC (OFF & NVO), 9619 NW. 33rd Street, Doral, FL 33178. Officers: Victor E. Segura/General Manager Member/Treasurer (Qualifying Individual), Jorge A. Paez, Manager Member/Secretary, Application Type: New OFF & NVO License

Overseas Cargo Inc. (OFF & NVO), 332 S. Wayside Drive, Houston, TX 77011. Officer: Mohammed S. Mohamed, CEO (Qualifying Individual), Application Type: New OFF & NVO License

Pacific Republic West Inc. (OFF & NVO), 420 McKinley Street, Suite 111-209, Corona, CA 92879. Officer: Haiying L. Snider, Secretary (Qualifying Individual), Application Type: New OFF & NVO License

Pactrans Global, LLC (OFF & NVO), 950 Thorndale Avenue, Elk Grove Village, IL 60007. Officers: Chance Pon, Managing Member (Qualifying Individual), Kitty Pon, Manager, Application Type: New OFF & NVO License

Skylink Global Logistics, Inc. (OFF & NVO), One Industrial Plaza, Bldg. C, Valley Stream, NY 11581. Officers: Toru Mizuno, Vice President/Secretary (Qualifying Individual), Kevin Connolly, President/Treasurer, Application Type: New OFF & NVO License

Shipping Solutions Worldwide, Ltd. (OFF & NVO), 14650 Rothgeb Drive, Unit P, Rockville, MD 20850. Officers: Raul Zambrano, Vice President (Qualifying Individual), Edgar Zambrano, President, Application Type: New OFF & NVO

Talwin Transport Service LLC (OFF & NVO), 8305 NW. 27th Street, Suite 111, Doral, FL 33122. Officers: Orestes G. Wrves, Secretary/Treasurer/MGRM (Qualifying Individual), Gabriel N. Taberna, President/MGRM, Application Type: New OFF & NVO

Transoceanic Projects Development Company, Inc. dba AKL Shipping, Company (OFF & NVO), 1801 Kingwood Drive, Suite 270, Kingwood, TX 77339. Officers: Richard W. Castaing, Executive Vice President (Qualifying Individual), Arval D. Headrick, Sr., President, Application Type: New OFF & NVO License

Transworld Logistics & Shipping Services, Inc. dba All Cargo, Movers Inc. dba Balaji Shipping (U.K.) Limited dba TLSS, Inc. (OFF & NVO), 200 Middlesex Essex Turnpike, Suite 200, Iselin, NJ 08830. Officers: Allan J. Couto, Vice President (Qualifying Individual), Sivaswamy I. Ramakrishnan, President, Application Type: Add NVO Service/Trade Name Change

Viva Logistics Inc. (OFF & NVO), 347 Fifth Avenue, #910, New York, NY 10016. Officers: Shao F. Lai, Vice President (Qualifying Individual), Wheiyu Wang, President, Application Type: New OFF & NVO License

Dated: July 2, 2010.
Karen V. Gregory,
Secretary.

[FR Doc. 2010-16734 Filed 7-8-10; 8:45 am]

BILLING CODE P